SECURITIES AND EXCHANGE COMMISSION

Submission for OMB Review; Comment Request

Upon written request, copies available from: U.S. Securities and Exchange Commission, Office of Investor Education and Advocacy, Washington, DC 20549-0213

Extension:

Rule 101, OMB Control No. 3235-0464, SEC File No. 270-408

Notice is hereby given that pursuant to the Paperwork Reduction Act of 1995 (44 U.S.C. 3501 et seq.), the Securities and Exchange Commission (“Commission”) has submitted to the Office of Management and Budget a request for approval of extension of the existing collection of information provided for in the following rule: Rule 101 of Regulation M (17 CFR 242.101).

Rule 101 prohibits distribution participants from purchasing activities at specified times during a distribution of securities. Persons otherwise covered by these rules may seek to use several applicable exceptions such as a calculation of the average daily trading volume of the securities in distribution, the maintenance of policies regarding information barriers between their affiliates, and the maintenance of a written policy regarding general compliance with Regulation M for de minimus transactions.

There are approximately 1634 respondents per year that require an aggregate total of 31,355 hours to comply with this rule. Each respondent makes an estimated 1 annual response. Each response takes approximately 19.19 hours to complete. Thus, the total compliance burden per year is 31,355 burden hours. The total compliance cost for the respondents is approximately $1,763,718.75, resulting in a cost of compliance for the respondent per response of approximately $1079.39 (i.e., $1,763,718.75/1634 responses).

An agency may not conduct or sponsor, and a person is not required to respond to, a collection of information unless it displays a currently valid control number.

Comments should be directed to (i) Desk Officer for the Securities and Exchange Commission, Office of Information and Regulatory Affairs, Office of Management and Budget, Room 10102, New Executive Office Building, Washington, DC 20503 or by sending an e-mail to: Alexander_T._Hunt@omb.eop.gov; and (ii) R. Corey Booth, Director/Chief Information Officer, Securities and Exchange Commission, c/o Shirley Martinson, 6432 General Green Way, Alexandria, VA 22312 or send an e-mail to: PRA_Mailbox@sec.gov. Comments must be submitted within 30 days of this notice.

Dated: March 24, 2008.
Florence E. Harmon,
Deputy Secretary.

[FR Doc. E8-6382 Filed 3-27-08; 8:45 am]

BILLING CODE 8011-01-P